DEPARTMENT OF LABOR

Occupational Safety and Health Administration

[Docket No. OSHA-2019-0008]

Ballard Marine Construction; Withdrawal of Application for Variance and Revocation of Interim Order

AGENCY: Occupational Safety and Health Administration (OSHA), Labor.

ACTION: Notice.

SUMMARY: In this notice, OSHA announces the revocation of the Interim Order granted to the applicant, Ballard Marine Construction (Ballard), from provisions of OSHA's standard for work in compressed air environments, and further announces the applicant's withdrawal of the application for a permanent variance.

DATES: The revocation of the interim order specified by this notice becomes effective on April 7, 2021.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-2110; email: robinson.kevin@dol.gov.

SUPPLEMENTARY INFORMATION:

I. Notice of Withdrawal of Application for Permanent Variance and Revocation of Interim Order

On January 19, 2021, OSHA granted Ballard an Interim Order (86 FR 5253), which permitted the employer to comply with alternative conditions instead of complying with the requirements of the OSHA's compressed air standard, 29 CFR 1926.803. Further, the Interim Order stated that it was to remain in effect through the duration of the Suffolk County Outfall Tunnel Project. Ballard notified OSHA by letter dated February 17, 2021 (OSHA-2019-0008-0012) that its portion of the Suffolk County Outfall Tunnel Project was complete, and that for this reason, the applicant was withdrawing their application for a permanent variance.

OSHA hereby revokes the Interim Order granted to Ballard on January 19, 2021 (86 FR 5253).

II. Authority and Signature

James S. Frederick, Principal Deputy Assistant Secretary of Labor for Occupational Safety and Health, 200 Constitution Avenue NW, Washington, DC 20210, authorized the preparation of this notice. Accordingly, the agency is issuing this notice pursuant to Section 29 U.S.C. 655(6)(d), Secretary of Labor's Order No. 8-2020 (85 FR 58393; Sept. 18, 2020), and 29 CFR 1905.11.

Signed at Washington, DC, on March 31, 2021.
James S. Frederick,
Principal Deputy Assistant Secretary of Labor for Occupational Safety and Health.

[FR Doc. 2021-07133 Filed 4-6-21; 8:45 am]

BILLING CODE 4510-26-P